DEPARTMENT OF HOMELAND SECURITY

Federal Emergency Management Agency

44 CFR Part 67

Docket ID FEMA-2011-0002; Internal Agency Docket No. FEMA-B-1214]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 13, 2011.

ADDRESSES: The corresponding preliminary Flood Insurance Rate Map (FIRM) for the proposed BFEs for each community is available for inspection at the community's map repository. The respective addresses are listed in the table below.

You may submit comments, identified by Docket No. FEMA-B-1214, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Cascade County, Montana
Montana | Unincorporated Areas of Cascade County | Missouri River (near Mid Canon) | Approximately 200 feet upstream of I-15 (westbound) | None | +3433
|  |  | Approximately 1.2 miles upstream of I-15 (eastbound) | None | +3440
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Cascade County
Maps are available for inspection at 415 3rd Street Northwest, Great Falls, MT 59403.
Unincorporated Areas of Pontotoc County, Oklahoma
Oklahoma | Unincorporated Areas of Pontotoc County | Clear Boggy Creek | At the downstream side of Cradduck Road | None | +865
|  |  | Approximately 0.4 mile upstream of Cradduck Road | None | +876
Oklahoma | Unincorporated Areas of Pontotoc County | Town Branch | Approximately 400 feet upstream of South Saint Memphis Road | +853 | +852
|  |  | Approximately 1,600 feet upstream of South Saint Memphis Road | +855 | +856
Oklahoma | Unincorporated Areas of Pontotoc County | Tributary 1 | At the downstream side of U.S. Route 3 | None | +824
|  |  | Approximately 1,975 feet upstream of County Road East 1570 | None | +845
Oklahoma | Unincorporated Areas of Pontotoc County | Tributary 2 | Approximately 600 feet upstream of the Tributary 1 confluence | None | +831
|  |  | Approximately 1,175 feet upstream of County Road East 1570 | None | +853
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Pontotoc County
Maps are available for inspection at 120 West 13th Street, Ada, OK 74821.

Flooding Source(s) | Location of Referenced Elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities Affected
George County, Mississippi, and Incorporated Areas
Black Creek | Approximately 1.7 miles downstream of State Route 57 | None | +39 | Unincorporated Areas of George County.
| Approximately 1.2 miles upstream of State Route 57 | None | +43
Chickasawhay River | At the Leaf River confluence | None | +59 | Unincorporated Areas of George County.
| Approximately 3.8 miles upstream of the Leaf River confluence | None | +61
Depot Creek | Approximately 1.0 mile downstream of Beaver Dam Road | None | +141 | City of Lucedale, Unincorporated Areas of George County.
| Approximately 1,140 feet upstream of Depot Road | None | +189
Indian Creek | Approximately 0.5 mile downstream of Grain Elevator Road | None | +38 | Unincorporated Areas of George County.
| Approximately 0.6 mile upstream of Grain Elevator Road | None | +56
Leaf River | At the Chickasawhay River confluence | None | +59 | Unincorporated Areas of George County.
| Approximately 3.1 miles upstream of the Chickasawhay River confluence | None | +60
Pascagoula River | Approximately 1.2 miles upstream of the Plum Bluff Cutoff confluence | None | +40 | Unincorporated Areas of George County.
| Approximately 1,690 feet upstream of Merrill Salem Road | None | +59
Red Creek | Approximately 1.8 miles downstream of Red Creek Road | None | +37 | Unincorporated Areas of George County.
| Approximately 2.9 miles upstream of Red Creek Road | None | +46
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Lucedale
Maps are available for inspection at the City Clerk's Office, 5126 Main Street, Lucedale, MS 39452.
Unincorporated Areas of George County
Maps are available for inspection at the George County Courthouse, 355 Cox Street, Lucedale, MS 39452.
Rockland County, New York (All Jurisdictions)
Demarest Kill | At the West Branch Hackensack River confluence | +95 | +98 | Town of Clarkstown.
| At the upstream side of Little Tor Road | +248 | +247
East Branch Hackensack River | At the upstream side of Old Mill Road | +86 | +88 | Town of Clarkstown.
| Approximately 600 feet downstream of Rockland Lake | +150 | +151
Golf Course Brook | At the upstream side of Nottingham Drive | +325 | +326 | Village of Montebello.
| At the upstream side of Spook Rock Road | +491 | +492
Hackensack River | At the Town of Orangetown/Town of Clarkstown corporate limit | +59 | +58 | Town of Clarkstown, Town of Orangetown.
| At the downstream side of Old Mill Road | +67 | +66
Minisceongo Creek | At the upstream side of the dam (near Gagan Road) | +10 | +11 | Town of Haverstraw, Village of Haverstraw, Village of West Haverstraw.
| Approximately 1,000 feet upstream of Thiels Ivy Road | None | +349
Nauraushaun Brook | At the Hackensack River confluence | +55 | +57 | Town of Clarkstown, Town of Orangetown.
| Approximately 200 feet upstream of Smith Road | +295 | +297
North Branch Pascack Brook | At the Pascack Brook confluence | +350 | +351 | Town of Ramapo, Town of Clarkstown, Village of New Hempstead, Village of New Square, Village of Spring Valley.
| Approximately 250 feet upstream of Greenridge Way | +514 | +513
Pascack Brook | At the New Jersey state boundary | +202 | +207 | Town of Ramapo, Town of Clarkstown, Town of Orangetown, Village of Chestnut Ridge, Village of Kaser, Village of Spring Valley.
| At the downstream side of Grosser Lane | +580 | +578
Sparkill Creek | Approximately 350 feet downstream of Rock Road | +13 | +14 | Village of Piermont, Town of Orangetown.
| At the upstream side of Erie Street | +123 | +124
West Branch Hackensack River | At the upstream side of Ridge Road | +87 | +88 | Town of Clarkstown.
| At the Town of Ramapo corporate limit | +297 | +290
West Branch Saddle River | At the upstream side of the New Jersey state boundary | +324 | +325 | Town of Ramapo, Village of Airmont.
| Approximately 280 feet upstream of Olympia Lane | +533 | +530
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Clarkstown
Maps are available for inspection at the Clarkstown Town Hall, 10 Maple Avenue, New City, NY 10956.
Town of Haverstraw
Maps are available for inspection at the Haverstraw Town Hall, 1 Rosemand Road, Garnerville, NY 10923.
Town of Orangetown
Maps are available for inspection at the Town of Orangetown Building Department, 20 Greenbush Road, Orangeburg, NY 10962.
Town of Ramapo
Maps are available for inspection at the Ramapo Town Hall, 237 State Route 59, Suffern, NY 10901.
Village of Airmont
Maps are available for inspection at the Village Hall, 251 Cherry Lane, Airmont, NY 10982.
Village of Chestnut Ridge
Maps are available for inspection at the Village Hall, 277 Old Nyack Turnpike, Chestnut Ridge, NY 10977.
Village of Haverstraw
Maps are available for inspection at the Haverstraw Village Hall, 40 New Main Street, Haverstraw, NY 10927.
Village of Kaser
Maps are available for inspection at the Kaser Village Hall, 15 Elyon Road, Monsey, NY 10952.
Village of Montebello
Maps are available for inspection at the Village Hall, 1 Montebello Road, Montebello, NY 10901.
Village of New Hempstead
Maps are available for inspection at the New Hempstead Village Hall, 108 Old Schoolhouse Road, New City, NY 10956.
Village of New Square
Maps are available for inspection at the Village Hall, 766 North Main Street, New Square, NY 10977.
Village of Piermont
Maps are available for inspection at the Village Hall, 478 Piermont Avenue, Piermont, NY 10968.
Village of Spring Valley
Maps are available for inspection at the Village Hall, 200 North Main Street, Spring Valley, NY 10977.
Village of West Haverstraw
Maps are available for inspection at the Village Hall, 130 Samsondale Avenue, West Haverstraw, NY 10993.
Vernon County, Wisconsin, and Incorporated Areas
Mississippi River | Approximately 185 feet upstream of the Crawford County boundary | +635 | +633 | Unincorporated Areas of Vernon County, Village of De Soto, Village of Genoa, Village of Stoddard.
| Approximately 2.75 miles downstream of the La Crosse County boundary | +639 | +638
West Branch Baraboo River | Approximately 272 feet downstream of the West Branch Baraboo River Split Flow 2 confluence | +941 | +932 | City of Hillsboro, Unincorporated Areas of Vernon County.
| At Sebranek Lane | +967 | +966
West Branch Baraboo River Split Flow 2 | Approximately 704 feet downstream of the West Branch Baraboo River confluence | None | +931 | City of Hillsboro, Unincorporated Areas of Vernon County.
| At the West Branch Baraboo River confluence | None | +932
* National Geodetic Vertical Datum.
+ North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Hillsboro
Maps are available for inspection at 123 Mechanic Street, Hillsboro, WI 54634.
Unincorporated Areas of Vernon County
Maps are available for inspection at 400 Courthouse Square, Viroqua, WI 54665.
Village of De Soto
Maps are available for inspection at 115 South Houghton Street, De Soto, WI 54624.
Village of Genoa
Maps are available for inspection at 111 Main Street, Genoa, WI 54632.
Village of Stoddard
Maps are available for inspection at 180 North Main Street, Stoddard, WI 54658.

(Catalog of Federal Domestic Assistance No. 97.022, “Flood Insurance.”)

Dated: August 30, 2011.
Sandra K. Knight,
Deputy Associate Administrator for Mitigation, Department of Homeland Security, Federal Emergency Management Agency.

[FR Doc. 2011-23413 Filed 9-13-11; 8:45 am]

BILLING CODE 9110-12-P